INTERNATIONAL TRADE COMMISSION

[USITC SE-16-023]

Sunshine Act Meeting

AGENCY HOLDING THE MEETING: United States International Trade Commission.

TIME AND DATE: July 8, 2016 at 11:00 a.m.

PLACE: Room 101, 500 E Street SW., Washington, DC 20436, Telephone: (202) 205-2000.

STATUS: Open to the public.

MATTERS TO BE CONSIDERED:

1. Agendas for future meetings: none.

2. Minutes.

3. Ratification List.

4. Vote in Inv. Nos. 701-TA-562 and 731-TA-1329 (Preliminary) (Ammonium Sulfate from China). The Commission is currently scheduled to complete and file its determination on July 11, 2016; views of the Commission are currently scheduled to be completed and filed on July 18, 2016.

5. Vote in Inv. Nos. 731-TA-770-773 and 775 (Third Review) (Stainless Steel Wire Rod from Italy, Japan, Korea, Spain, and Taiwan). The Commission is currently scheduled to complete and file its determinations and views of the Commission on July 25, 2016.

6. Outstanding action jackets: none.

In accordance with Commission policy, subject matter listed above, not disposed of at the scheduled meeting, may be carried over to the agenda of the following meeting.

By order of the Commission.
Issued: June 27, 2016.
William R. Bishop,
Supervisory Hearings and Information Officer.

[FR Doc. 2016-15633 Filed 6-28-16; 11:15 am]

BILLING CODE P